DEPARTMENT OF THE INTERIOR

Bureau of Indian Affairs

Confederated Tribes of the Umatilla Reservation Liquor Code

AGENCY: Bureau of Indian Affairs, Interior.

ACTION: Notice.

SUMMARY: This notice publishes the Confederated Tribes of the Umatilla Indian Reservation Tribal Liquor Code (Code). The Code regulates and controls the possession, sale and consumption of liquor within the Confederated Tribes of the Umatilla Indian Reservation. The Reservation is located on trust land and this Code allows for the possession and sale of alcoholic beverages within the exterior boundaries of the Confederated Tribes of the Umatilla Indian Reservation. This Code will increase the ability of the tribal government to control the community's liquor distribution and possession, and at the same time will provide an important source of revenue for the continued operation and strengthening of the tribal government and the delivery of tribal services.

DATES: Effective Date: This Code is effective on April 6, 2006.

FOR FURTHER INFORMATION CONTACT: Betty Scissons, Division of Tribal Government Services, Bureau of Indian Affairs, Northwest Regional Office, 911 NE 11th Avenue, Portland, OR 97232-4169, Telephone (503) 231-6723, Fax 503-231-2201; or Ralph Gonzales, Office of Tribal Services, 1951 Constitution Avenue, NW., Mail Stop 320-SIB, Washington, DC 20240, Telephone (202) 513-7629.

SUPPLEMENTARY INFORMATION: Pursuant to the Act of August 15, 1953, Public Law 83-277, 67 Stat. 586, 18 U.S.C. 1161, as interpreted by the Supreme Court in Rice v. Rehner, 463 U.S. 713 (1983), the Secretary of the Interior shall certify and publish in the Federal Register notice of adopted liquor codes for the purpose of regulating liquor transactions in Indian country. The Confederated Tribes of the Umatilla Indian Reservation Board of Trustees adopted its Liquor Code by Resolution No. 05-127 on December 19, 2005. The purpose of this Code is to govern the sale, possession and distribution of alcohol within the Confederated Tribes of the Umatilla Indian Reservation. This notice is published in accordance with the authority delegated by the Secretary of the Interior to the Principal Deputy Assistant Secretary—Indian Affairs. I certify that this Liquor Code of the Confederated Tribes of Coos was duly adopted by the Board of Trustees on December 19, 2005.

Dated: March 31, 2006.
Michael D. Olsen,
Acting Principal Deputy Assistant Secretary—Indian Affairs.

The Confederated Tribes of the Umatilla Indian Reservation Tribal Liquor Code reads as follows:

Liquor Code Confederated Tribes of the Umatilla Indian Reservation

Liquor Code

Chapter 1. Liquor Code

Section 1.01. Title

This Code shall be the Liquor Code of the Confederated Tribes of the Umatilla Indian Reservation (Confederated Tribes) and shall be referenced as the Liquor Code.

Section 1.02. Findings and Purpose

A. The introduction, possession, and sale of liquor on Indian reservations have historically been recognized as a matter of special concern to Indian tribes and to the United States. The control of liquor on the Umatilla Indian Reservation remains exclusively subject to the legislative enactments of the Confederated Tribes in its exercise of its governmental powers over the Reservation, and the United States.

B. Federal law currently prohibits the introduction of liquor into Indian Country (18 U.S.C. 1154), leaving tribes the decision regarding when and to what extent liquor transactions, sales, possession and service shall be permitted on their reservation (18 U.S.C. 1161).

C. The Board of Trustees, as the governing body of the Confederated Tribes pursuant to Article VI, § 1 of the Constitution and Bylaws of the Confederated Tribes, discussed and approved a Resolution to permit the sale and service of liquor at the Wildhorse Resort & Casino, but at no other location, at the Board of Trustee meeting held on October 3, 2005.

D. Pursuant to the authority in Article VI, § 1(a) of the Confederated Tribes' Constitution, the Board of Trustees has the authority “to represent the [Confederated] Tribes and to negotiate with the Federal, State and local governments * * * on * * * projects and legislation that affect the [Confederated] Tribes”.

E. Pursuant to the authority in Article VI, § 1(d) of the Confederated Tribes' Constitution, the Board of Trustees has the authority “to promulgate and enforce ordinances governing the conduct of all persons and activities within the boundaries of the Umatilla Indian Reservation, providing for the procedure of the Board of Trustees, and carrying out any powers herein conferred upon the Board of Trustees”.

F. The enactment of this Liquor Code to govern liquor sales and service on the Umatilla Indian Reservation, and the limitation of such liquor sales and service at the Wildhorse Resort & Casino, will increase the ability of the Confederated Tribes to control Reservation liquor distribution and possession, and at the same time will provide an important source of revenue for the continued operation of tribal government and the delivery of governmental services, as well as provide an amenity to customers at the Wildhorse Resort & Casino.

G. The Confederated Tribes will enter into a Memorandum of Understanding (MOU) with the Oregon Liquor Control Commission to deal with governmental issues associated with the licensing and regulation of liquor sales on the Umatilla Indian Reservation.

Section 1.03. Definitions

A. Unless otherwise required by the context, the following words and phrases shall have the designated meanings.

1. “Alcohol”. That substance known as ethyl alcohol, hydrated oxide or ethyl, spirits or wine as defined herein, which is commonly produced by the fermentation or distillation of grain, starch, molasses, or sugar, or other substances including all dilutions and mixtures of those substances.

2. “Wildhorse Chief Operating Officer”. That person appointed by the Confederated Tribes to manage the Wildhorse Resort & Casino.

3. “Liquor” or “Liquor Products”. Includes the four varieties of liquor herein defined (alcohol, spirits, wine, and beer) and all fermented, spirituous, vinous, or malt liquor, or a combination thereof, and mixed liquor, a part of which is fermented, spirituous, vinous, or malt liquor or otherwise intoxicating in every liquid or solid or semi-solid or other substance patented or not containing alcohol, spirits, wine, or beer, and all drinks of potable liquids and all preparations or mixtures capable of human consumption, and any liquid, semi-solid, solid, or other substance, which contains more than one percent (1%) of alcohol by weight shall be conclusively deemed to be intoxicating.

4. “Wildhorse Resort & Casino”. Shall be the casino, hotel, golf course, and RV park located on the 640 acre Wildhorse site located on the Umatilla Indian Reservation which is more specifically described in Exhibit 1 to the Tribal-State Compact between the Confederated Tribes and the State of Oregon.

5. “Sale” and “Sell”. Includes exchange, barter, and traffic; and also the supplying or distribution by any means whatsoever, of liquor or any liquid known or described as beer or by any name whatever commonly used to describe malt or brewed liquor or wine, by any person to any other person; and also includes the supply and distribution to any other person.

6. “Spirits”. Any beverage which contains alcohol obtained by distillation, including wines exceeding seventeen percent (17%) of alcohol by weight.

7. “Wine”. Any alcoholic beverage obtained by fermentation of fruits, grapes, berries, or any other agricultural product containing sugar, to which any saccharin substances may have been added before, during or after fermentation, and containing not more than seventeen percent (17%) of alcohol by weight, including sweet wines fortified with wine spirits, such as port, sherry, muscatel, and anglican, not exceeding seventeen percent (17%) of alcohol by weight.

Section 1.04. Jurisdiction

To the extent permitted by applicable law, the Confederated Tribes asserts jurisdiction to determine whether liquor sales and service are permitted within the boundaries of the Umatilla Indian Reservation. As provided in section 1.06 of this Code, liquor sales and service is only permitted at the Wildhorse Resort & Casino facilities under this Code. Nothing in this Code is intended nor shall be construed to limit the jurisdiction of the Confederated Tribes to all lands within the boundaries of the Umatilla Indian Reservation.

Section 1.05. Relation to Other Laws

All prior codes, ordinances, resolutions and motions of the Confederated Tribes regulating, authorizing, prohibiting, or in any way dealing with the sale or service of liquor are hereby repealed and are of no further force or effect to the extent they are inconsistent or conflict with the provisions of this Code. Specifically, amendments to the Criminal Code to make it consistent with this Liquor Code have been approved by Resolution 05-095 (October 3, 2005). No Tribal business licensing law or other Tribal law shall be applied in a manner inconsistent with the provisions of this Code.

Section 1.06. Authorized Sale and Service of Liquor

A. Liquor may be offered for sale and may be served on the Umatilla Indian Reservation only at the following Wildhorse Resort & Casino facilities: Casino, hotel, golf course, and RV park. The sales and service of liquor at Wildhorse Resort & Casino facilities may only be permitted in the following areas.

1. Casino. Lounge(s), restaurant(s), bingo/multipurpose hall when used for entertainment, food service, or convention/meeting purposes, conference/meeting room facility, entertainment facilities constructed within or adjacent to the Casino building and on casino premises in connection with special events (i.e., concert, rodeo event, car shows, etc.). All such sales and service of liquor shall be consistent with the Tribal-State Compact.

2. Golf course. Clubhouse and on the golf course.

3. Hotel. Hotel meeting room and in hotel rooms by guest use of room service, etc.

4. RV park. In common area at special events and in individual RVs.

B. The Board of Trustees hereby authorizes the Wildhorse Chief Operating Officer to apply for and maintain the appropriate license(s) from the Oregon Liquor Control Commission (OLCC) for the sales and service of liquor at the Wildhorse Resort & Casino as provided in this Code. The Wildhorse Chief Operating Officer is further authorized to treat as a casino expense any license fees associated with the OLCC liquor license.

Section 1.07. Prohibitions

A. General Prohibitions. The commercial introduction of liquor for sales and service, other than by the Confederated Tribes through its Wildhorse Resort & Casino as permitted by this Code, is prohibited within the Umatilla Indian Reservation, and is hereby declared an offense under Tribal law. Federal liquor laws applicable to Indian Country shall remain applicable to any person, act, or transaction which is not authorized by this Code and violators of this Code shall be subject to federal prosecution as well as to legal action in accordance with the law of the Confederated Tribes.

B. Age Restrictions. No person shall be authorized to serve liquor to casino patrons unless they are at least 21 years of age. No person may be served liquor unless they are 21 years of age.

C. No Consumption of Liquor Outside of Wildhorse Resort & Casino Premises. All liquor sales and service authorized by this Code shall be fully consumed within the areas of the Wildhorse Resort & Casino as set forth in § 1.06 of this Code. No open containers of liquor, or unopened containers of liquor in bottles, cans, or otherwise may be permitted outside of the above-described premises.

D. No Credit Liquor Sales. The sales and service of liquor authorized by this Code shall be upon a cash basis only. Payment for liquor shall be by cash, credit card, or check.

Section 1.08. Conformity With State Law

Authorized liquor sales and service on the Umatilla Indian Reservation shall comply with Oregon State liquor law standards to the extent required by 18 U.S.C. 1161. The Wildhorse Chief Operating Officer shall be responsible for ensuring that all OLCC license requirements are satisfied, that the license(s) is renewed on an annual basis, and that all reasonable and necessary actions are taken to sell and serve liquor to Wildhorse patrons in a manner consistent with this Code, applicable State law, and the Tribal-State Compact. The Wildhorse Chief Operating Officer shall also be authorized to purchase liquor from the State or other source for sale and service within the Wildhorse Resort & Casino.

Section 1.09. Penalty

Any person or entity possessing, selling, serving, bartering, or manufacturing liquor products in violation of any part of this Code shall be subject to a civil fine of not more than $500 for each violation involving possession, but up to $5,000 for each violation involving selling, bartering, or manufacturing liquor products in violation of this Code, and violators may be subject to exclusion from the Umatilla Indian Reservation. In addition, persons or entities subject to the criminal jurisdiction of the Confederated Tribes who violate this Code shall be subject to criminal punishment as provided in the Criminal Code. All contraband liquor shall be confiscated by the Umatilla Tribal Police Department (UTPD). The Umatilla Tribal Court shall have exclusive jurisdiction to enforce this Code and the civil fines, criminal punishment and exclusion authorized by this section.

Section 1.10. Sovereign Immunity Preserved

Nothing in this Code is intended or shall be construed as a waiver of the sovereign immunity of the Confederated Tribes. No manager or employee of the Wildhorse Resort & Casino shall be authorized, nor shall they attempt, to waive the sovereign immunity of the Confederated Tribes pursuant to this Code.

Section 1.11. Severability

If any provision or provisions in this Code are held invalid by a court of competent jurisdiction, this Code shall continue in effect as if the invalid provision(s) were not a part hereof.

Section 1.12. Effective Date

This Code shall be effective following approval by the Board of Trustees and approval by the Secretary of the Interior or his/her designee and publication in the Federal Register as provided by Federal law.

Appendix A Legislative History

Liquor Code

Legislative History

The Board of Trustees enacted the Liquor Code in Resolution No. 05-094 (October 3, 2005). In Resolution No. 05-127 (December 19, 2005), the Board amended section 1.12 of the Code. No further amendments or revisions have been enacted.

[FR Doc. 06-3336 Filed 4-5-06; 8:45 am]

BILLING CODE 4310-4J-P